SURFACE TRANSPORTATION BOARD

[Docket No. FD 36789]

Patriot Rail Company LLC, SteelRiver Transport Ventures LLC, Global Diversified Infrastructure Fund (North America) LP, First State Infrastructure Managers (International) Limited, and Mitsubishi UFJ Financial Group, Inc.—Continuance in Control Exemption—Front Range Railroad LLC

Patriot Rail Company LLC, SteelRiver Transport Ventures LLC, Global Diversified Infrastructure Fund (North America) LP, First State Infrastructure Managers (International) Limited, and Mitsubishi UFJ Financial Group, Inc. (collectively, Applicants), all noncarriers, have filed a verified notice of exemption under 49 CFR 1180.2(d)(2) to continue in control of Front Range Railroad, LLC (FRRL), upon FRRL's becoming a Class III rail carrier.

This transaction is related to a verified notice of exemption filed concurrently in Front Range Railroad—Operation Exemption—Line in Adams County, Colo., Docket No. FD 36789, in which FRRL seeks to operate as a rail carrier over approximately 0.51 miles (approximately 2,700 feet) of track located in Bennett, Adams County, Colo.

According to the verified notice, Applicants currently control existing Class III rail carriers (Patriot Short Lines) in 21 states.¹

¹ Although Applicants state that they currently control 31 existing Class III rail carriers (Verified Notice 2 & n.2), they include 32 individual carriers in the list of carriers that they control (id. at 3-5).

The verified notice lists the railroads and the location of their operations as follows: (1) Alabama & Florida Railway Co., Inc. d/b/a Ripley & New Albany Railroad Co.—Alabama and Mississippi; (2) Columbia & Cowlitz Railway, LLC—Washington; (3) Decatur Junction Railway Co. LLC—Illinois; (4) Delta Southern Railroad, Inc.—Louisiana; (5) DeQueen and Eastern Railroad, LLC—Arkansas; (6) Elkhart & Western Railroad Co. LLC—Indiana; (7) Fort Smith Railroad Co. LLC—Arkansas; (8) The Garden City Western Railway LLC—Kansas; (9) Georgia Northeastern Railroad Company LLC—Georgia; (10) Georgia Southern Railway Co. LLC—Georgia; (11) Gettysburg & Northern Railroad Co. LLC—Pennsylvania; (12) Golden Triangle Railroad, LLC—Mississippi; (13) Indiana Southwestern Railway Co. LLC—Indiana; (14) Kendallville Terminal Railway Co. LLC—Indiana; (15) Keokuk Junction Railway Co. LLC—Iowa and Illinois; (16) Keokuk Union Depot Company LLC (KUD)—Iowa; (17) Kingman Terminal Railroad, LLC—Arizona; (18) Lakeshore Terminal Railroad LLC—Indiana; (19) Louisiana and North West Railroad Company, LLC—Arkansas and Louisiana; (20) Merced County Central Valley Railroad LLC—California; (21) Michigan Southern Railroad Company (in Indiana and Ohio, d/b/a Napoleon Defiance and Western Railway)—Indiana, Michigan, and Ohio; (22) Mississippi Central Railroad Co. LLC—Mississippi, Tennessee, and Alabama; (23) Pioneer Industrial Railway Co. LLC—Illinois; (24) Rarus Railway, LLC d/b/a Butte, Anaconda & Pacific Railway Co.—Montana; (25) Sacramento Valley Railroad, LLC—California; (26) Salt Lake, Garfield and Western Railway Company—Utah; (27) Temple & Central Texas Railway, LLC—Texas; (28) Tennessee Southern Railroad Company, LLC—Tennessee and Alabama; (29) Texas Oklahoma & Eastern Railroad, LLC—Oklahoma; (30) Utah Central Railway Company, LLC—Utah; (31) Vandalia Railroad Company—Illinois; (32) West Belt Railway LLC—Missouri (collectively, Patriot Short Lines). Applicants state that it is unclear whether KUD is a rail carrier subject to the Board's jurisdiction and they have included KUD in this list out of an abundance of caution.

The verified notice indicates that: (1) the Line does not connect with any of the Patriot Short Lines; (2) Applicants do not intend to undertake any transactions to connect any of the Patriot Short Lines to each other or to the Line; and (3) the proposed transaction does not involve a Class I rail carrier. Therefore, the transaction is exempt from the prior approval requirements of 49 U.S.C. 11323. See 49 CFR 1180.2(d)(2).

The transaction may be consummated on or after July 18, 2024, the effective date of the exemption (30 days after the verified notice was filed).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Accordingly, the Board may not impose labor protective conditions here because all of the carriers involved are Class III rail carriers.

If the verified notice contains false or misleading information, the exemption is void ab initio. Petitions to revoke the exemption under 49 U.S.C. 10502(d) may be filed at any time. The filing of a petition to revoke will not automatically stay the effectiveness of the exemption. Petitions to stay must be filed no later than July 11, 2024.

All pleadings, referring to Docket No. FD 36789, must be filed with the Surface Transportation Board either via e-filing on the Board's website or in writing addressed to 395 E Street SW, Washington, DC 20423-0001. In addition, a copy of each pleading must be served on Applicants' representative, Robert A. Wimbish, Fletcher & Sippel LLC, 29 North Wacker Drive, Suite 800, Chicago, IL 60606-3208.

According to the verified notice, this action is categorically excluded from environmental review under 49 CFR 1105.6(c) and from historic preservation reporting requirements under 49 CFR 1105.8(b).

Board decisions and notices are available at www.stb.gov.

Decided: June 28, 2024.
By the Board, Scott M. Zimmerman, Acting Director, Office of Proceedings.
Eden Besera,
Clearance Clerk.

[FR Doc. 2024-14640 Filed 7-2-24; 8:45 am]

BILLING CODE 4915-01-P